DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App 2, the United States Department of Agriculture (USDA) announces a meeting of the National Agricultural Research, Extension, Education, and Economics Advisory Board.

DATES: The National Agricultural Research, Extension, Education, and Economics Advisory Board will meet April 28-30, 2009. The public may file written comments before and up to two weeks after the meeting with the contact person.

ADDRESSES: The meeting will take place at the National Press Club, 529 14th Street, NW., Washington, DC 20045 and the Double Tree Hotel, 1515 Rhode Island Avenue, NW., Washington, DC 20005. Written comments from the public may be sent to the contact person identified in this notice at: The National Agricultural Research, Extension, Education, and Economics Advisory Board; Research, Education, and Economics Advisory Board Office, Room 344-A, Jamie L. Whitten Building, United States Department of Agriculture, STOP 0321, 1400 Independence Avenue, SW., Washington, DC 20250-0321.

FOR FURTHER INFORMATION CONTACT: Karen Hunter, Executive Director or Shirley Morgan-Jordan, Program Support Coordinator, National Agricultural Research, Extension, Education, and Economics Advisory Board; telephone: (202) 720-3684; fax: (202) 720-6199; or e-mail: Karen.hunter@ars.usda.gov or Shirley.morgan@ars.usda.gov.

SUPPLEMENTARY INFORMATION: On Tuesday, April 28, 2009, from 8:45 a.m.-4:45 p.m., the Advisory Board will meet at the National Press Club located at 529 14th Street, NW., Washington, DC. On Wednesday, April 29, 2009, from 8:30 a.m.-5:30 p.m. the Board will convene at the Double Tree Hotel, 1515 Rhode Island Avenue, Washington, DC 20005 and begin with introductory remarks from the Chair of the Advisory Board and the Acting Under Secretary for Research, Education, and Economics (REE), USDA. Guest speaker comments will follow. Remarks will be heard from a variety of distinguished leaders and experts in the field of agriculture, as well as officials and/or designated experts from USDA. Various presentations and sessions throughout the day will focus on Global Climate Change and Agriculture. Board members will consider information received during the meeting to formulate recommendations for USDA to enhance its research, extension, education, and economic programs. On Thursday, April 30, 2009, the Board will reconvene at the Doubletree Hotel to continue discussions on recommendations, to determine future directions for the Board, and to evaluate the meeting. The meeting will adjourn by 12 p.m. (noon). An opportunity for public comment will be offered after the conclusion of this session. Written comments by attendees or other interested stakeholders are invited for the public record before and up to two weeks following the Board meeting (by close of business Thursday, May 14, 2009). All statements will become a part of the official record of the National Agricultural Research, Extension, Education, and Economics Advisory Board and will be kept on file for public review in the Research, Extension, Education, and Economics Advisory Board Office.

Done at Washington, DC, this 30th day of March 2009.
Katherine Smith,
Acting Deputy Under Secretary, Research, Education, and Economics.

[FR Doc. E9-7578 Filed 4-3-09; 8:45 am]

BILLING CODE 3410-03-P